DEPARTMENT OF AGRICULTURE

Forest Service

Humboldt-Toiyabe National Forests; Santa Rosa Ranger District; Martin Basin Rangeland Management Project

AGENCY: Forest Service, USDA.

ACTION: Notice of Intent To Prepare an Environmental Impact Statement; Corrected.

SUMMARY: The Santa Rosa Ranger District of the Humboldt-Toiyabe National Forest will prepare an Environmental Impact Statement (EIS) on a proposal to authorize continued livestock grazing on National Forest System (NFS) lands within the boundaries administered by the Santa Rosa Ranger District. The Project Area is located in Humboldt County, Nevada.

The preparation of this EIS is needed because the Record of Decision issued on June 2, 2006, for the Martin Basin Rangeland Management Project was appealed, and following review, the decision was reversed. A new EIS is being prepared to completely replace the Draft EIS released in 2004 and the Final EIS released in 2005.

DATES: The new Draft EIS is expected to be released for public review and comment in December of 2008 and the new Final EIS is expected to be released in February of 2009.

ADDRESSES: Send written comments to: Jose Noriega, District Ranger, Santa Rosa Ranger District, 1200 East Winnemucca Blvd., Winnemucca, NV 89445.

FOR FURTHER INFORMATION, CONTACT: For further information, mail correspondence to or contact Jose Noriega, District Ranger, Santa Rosa Ranger District, 1200 East Winnemucca Blvd., Winnemucca, NV 89445. The telephone number is: 775-623-5025, extension 5. E-mail address is: jnoriega@fs.fed.us.

SUPPLEMENTARY INFORMATION:

Background

Initiation of the Martin Basin Rangeland Project began in 2002 with the original Notice of Intent published in the Federal Register on December 30, 2002 (Vol. 67, Number 250). The Draft EIS was released in May of 2004 for a 135 day comment period. The Final EIS was released in June of 2005 and a 45 day comment period was also provided at that time. The Record of Decision for this project was issued on June 2, 2006, by then Forest Supervisor, Robert L. Vaught.

The Record of Decision for the Martin Basin Rangeland Project was appealed to the Intermountain Regional Forester. On September 6, 2006, the Regional Forester issued a decision on the appeal and remanded the decision back to the Humboldt-Toiyabe National Forest for additional analysis.

A Notice of Intent to prepare a Supplemental Environmental Impact Statement was published in the Federal Register on February 26, 2007 (Vol. 72, Number 37). That NOI estimated that the Draft Supplemental EIS would be released for review and comment on April 2007 and the Final Supplemental EIS would be completed by July 2007. This Corrected NOI provides notice that a new EIS is being prepared instead of a supplement to the 2005 Final EIS. This notice also updates the estimated dates for release of the new Draft and Final EISs, and provides additional information on the Proposed Action and Possible Alternatives.

Proposed Action

The Proposed Action, as outlined in the Final ETS released in 2005, will be refined and include additional details. Specifically, the Proposed Action would reduce the maximum utilization on forage to 45 percent for riparian areas and 50 percent for uplands. It would also apply a set of proper use criteria (for example, utilization, streambank disturbance) to each allotment based on its ecological condition (functioning, functioning-at-risk, or non-functioning). The ecological condition of the allotments would continue to be evaluated through a long-term monitoring process. If long-term monitoring indicates the ecological condition of the allotment has changed, then the set of proper use criteria associated with that ecological condition would be applied to the allotment.

Possible Alternatives

In addition to the Proposed Action, two additional alternatives have been identified from analysis in the EIS:

1. Current Management Alternative: Continue current grazing management.

2. No Grazing Alternative: Do not issue new grazing permits when existing permits expire.

Scoping Process

The scoping period for this EIS was formally initiated in December of 2002 when the original Notice of Intent for this project was published in the Federal Register (December 30, 2002; volume 67, Number 250).

While no additional scoping periods are planned prior to the release of the Draft Environmental Impact Statement, those wishing to submit comments may do so at the address listed above for District Ranger Jose Noriega.

Early Notice of Importance of Public Participation in Subsequent Environmental Review

A new Draft Environmental Impact Statement will be prepared for comment. The comment period on the new Draft EIS will be 45 days from the date that the Environmental Protection Agency (EPA) publishes the Notice of Availability (NOA) in the Federal Register.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

(Authority: 40 CFR 1501.7 and 1508.22; Forest Service Handbook 1909.15, Section 22.3)

Dated: September 19, 2008.
Edward C. Monnig,
Forest Supervisor.

[FR Doc. E8-24366 Filed 10-15-08; 8:45 am]

BILLING CODE 3410-11-M